DEPARTMENT OF THE INTERIOR

Minerals Management Service

Outer Continental Shelf (OCS) Policy Committee of the Minerals Management Advisory Board; Notice and Agenda for Meeting

AGENCY: Minerals Management Service, Interior.

SUMMARY: The OCS Policy Committee of the Minerals Management Advisory Board will meet at the Holiday Inn Fair Oaks Hotel in Fairfax, Virginia, on October 25-26, 2000.

The agenda will cover the following principal subjects;

Congressional Update. This presentation will focus on the status of timely congressional issues related to the OCS Program.

Natural Gas Supply Situation. This presentation will address the natural gas supply situation from the United States' perspective; Canada's ability to supply natural gas to the U.S. in the future; and, the industry's supply challenge and the transportation and distribution of natural gas, including the possibility of a natural gas pipeline from Alaska.

EPA Initiatives. This presentation will address marine protected waters, Section 403 of the Clean Water Act, and study results of synthetically based drilling muds.

Ocean Issues. This panel presentation will address implementation of the Ocean Act, the Ocean Exploration Panel, and the Ocean Task Force.

MMS Environmental Initiatives. This panel presentation will address the Deep Spill project, biotechnology (bioprospecting), recent sperm whale cruise results in the Gulf, and acoustic impacts on marine mammals.

Conservation and Reinvestment Act. This presentation will provide an update on the status of the Conservation and Reinvestment Act and any other pertinent information related to this issue.

Onshore Impacts of Increasing Offshore Activity. This presentation will address infrastructure, social and political impacts, and wetlands loss.

Hard Minerals Update. This presentation will provide an update on subcommittee activities and other pertinent hard minerals information.

MMS Regional Updates. The Regional Directors will highlight activities in the Gulf of Mexico and off the California and Alaska coasts.

The meeting is open to the public. Upon request, interested parties may make oral or written presentation to the OCS Policy Committee. Such requests should be made no later than October 13, 2000, to the Minerals Management Service, 381 Elden Street, MS-4001, Herndon, Virginia, 20170, Attention: Jeryne Bryant.

Requests to make oral statements should be accompanied by a summary of the statement to be made. For more information, call Jeryne Bryant at (703) 787-1211.

Minutes of the OCS Policy Committee meeting will be available for public inspection and copying at the MMS in Herndon, Virginia.

DATES: Wednesday, October 25 and Thursday, October 26, 2000.

ADDRESSES: Holiday Inn Fair Oaks Hotel, 11787 Lee Jackson Memorial Highway, Fairfax, Virginia 22033, (703) 352-2525.

FOR FURTHER INFORMATION CONTACT: Jeryne Bryant at the address and phone number listed above.

Authority: Federal Advisory Committee Act, Pub. L. 92-463, 5 U.S.C. Appendix 1, and the Office of Management and Budget's Circular No. A-63, Revised.

Dated: September 29, 2000.
Carolita U. Kallaur,
Associate Director for Offshore Minerals Management.

[FR Doc. 00-25647 Filed 10-4-00; 8:45 am]

BILLING CODE 4310-MR-M